DEPARTMENT OF TRANSPORTATION

Federal Aviation Administration

14 CFR Part 71

[Docket No. FAA-2005-23437; Airspace Docket No. 05-AWA-2]

RIN 2120-AA66

Modification of the Phoenix Class B Airspace Area; Arizona

AGENCY: Federal Aviation Administration (FAA), DOT.

ACTION: Final rule.

SUMMARY: This action modifies the Phoenix, AZ, Class B airspace area. Specifically, this action lowers the ceiling to 9,000 feet mean sea level (MSL) and expands the arrival extension boundaries to 30 nautical miles (NM). This will ensure the containment of the Standard Terminal Arrival Routes (STAR) at the Phoenix Sky Harbor International Airport (PHX), and correct the inefficiencies of several existing areas identified during public meetings, and reviews of the airspace by the Phoenix Airspace Users Work Group (PAUWG) and Phoenix Terminal Radar Approach Control (TRACON). The FAA is taking this action to improve the flow of air traffic, enhance safety, and reduce the potential for midair collision in the PHX Class B airspace area, while accommodating the concerns of airspace users. Further, this effort supports the FAA's national airspace redesign goal of optimizing terminal and en route airspace areas to reduce aircraft delays and improve system capacity.

DATES: Effective Date: 0901 UTC, October 25, 2007. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

On February 12, 2007, the FAA published in the Federal Register a notice of proposed rulemaking to modify the PHX Class B airspace area (72 FR 6501). The FAA proposed this action to lower the ceiling, and modify several areas to ensure the containment of arrivals within the PHX Class B airspace. Interested parties were invited to participate in this rulemaking effort by submitting written comments on the proposal. In response to the notice, the FAA received 40 written comments of which 23 expressed concurrence with an alternate proposal provided by the Arizona Pilots Association (APA). All comments received were considered before making a determination on the final rule. An analysis of the comments received and the FAA's responses are summarized in the “Discussion of Comments” section.

Discussion of Comments

Five commenters (U.S. Air Force Commander, 56th Flight Wing, US Airways, a commercial pilot, and two local pilots) wrote in support of the proposed action. The remaining commenters objected to various aspects of the proposal, with the most opposition directed at the proposal's complex design and lowered airspace floors.

The APA recognized the FAA's goal of creating Class B airspace to enable development of simultaneous Instrument Landing System (ILS) approach procedures at PHX. The APA stated that these approaches are used to their maximum capacity less than 20 days a year when actual Instrument Meteorological Conditions (IMC) exist. During these days, the general aviation (GA) Visual Flight Rules (VFR) pilot would be grounded.

The FAA does not agree. Simultaneous ILS approaches are not dependent only on actual IMC at the airport. In addition to IMC weather, reductions in visibility due to low level convective clouds for several days after rain storms, dust storms, haze, pollution, sunrise, and sunset are also reasons that this procedure would be used. Anytime there is a ceiling less than 3,000 feet above ground level (AGL), the arrival capacity at PHX is severely limited due to the pilot's inability to see the airport and other landing traffic in time for an optimum visual approach operation as exists in clear weather. During these conditions, GA VFR aircraft would not be grounded by weather.

The APA believes the overall increased complexity of the redesigned airspace is not warranted and represents an increased risk of inadvertent controlled airspace intrusion, noting that most GA aircraft do not have moving map displays and the areas are not readily identifiable using pilotage for navigation.

The FAA does not agree. Moving map displays are a recent technological addition to the cockpit. The uses of Distance Measuring Equipment (DME) arcs have long been the standard to define Class B airspace nationally. In the proposed areas that do not use DME arcs, ground-based references are used to define the airspace in areas not critical for reference to pilots of large turbine-powered aircraft on final approach to PHX. The current Class B airspace area uses DME arcs to define multiple areas that pilots are required to navigate around.

The APA and Aircraft Owners & Pilots Association (AOPA) both expressed opposition to the lowering of the airspace between 20 and 25 NM east of PHX from 8,000 to 5,000 feet. They stated this action would result in aircraft being forced to operate at low altitudes over mountainous terrain and violate recommended altitudes over designated wilderness areas.

The FAA does not agree. The lowering of the airspace floor in this area to 5,000 feet is critical for the development of the simultaneous ILS approach procedures at PHX, and for periods of compacted arrival demand when the PHX final is constrained due to the current higher Class B airspace limitation. Non-participating aircraft have the option of adjusting their flight to avoid precipitous terrain or contacting the TRACON for Class B services. Advisory Circular (AC) 91-36D recommends flights remain above 2,000 feet MSL, but the AC provisions do not apply when they conflict with regulations, ATC instructions, or when a pilot believes operating below 2,000 feet is necessary for the safety of the flight. Raising the floor from 5,000 to 7,000 feet MSL as suggested by AOPA and APA in this area will not contain simultaneous ILS approach procedures in Class B airspace. Aircraft on a downwind leg need to be level at 5,000 feet prior to turning base leg to join the runway 26 and 25 ILS final approach course no sooner than the ABOSE and BUDME intersections (PXR 16.6 DME). The base leg required to achieve this will be between the 17 and 25 NM DME from PXR.

The APA states that the overall lowering of Class B floors would ultimately increase the noise footprints over residential neighborhoods.

The FAA does not agree. The airspace 20 to 25 NM east of PHX in Area I is largely over thinly populated areas, mountainous terrain, and undeveloped areas. Area C is lowered to de-conflict non-participating aircraft from an area of intense large turbine-powered aircraft activity on final to PHX. Aircraft flying visually are being encouraged to fly further to the east at a higher altitude in the new flyway that will be over Falcon Field (FFZ) at 3,500 feet MSL, below the 4,000 foot floor of Area G. The lowering of airspace west of PHX consists of a Class B expansion over and south of Luke AFB in Area F. Luke AFB actively discourages non-participating aircraft from flying in this area without being in communication with the Luke Radar Approach Control (RAPCON) as part of the Luke AFB Mid Air Collision Avoidance Program.

The floors of the Class B airspace areas will be raised significantly over many densely populated areas. Area E raises the floor from 3,000 to 5,000 feet MSL over the communities of Tempe, Chandler, Guadalupe, and the developing areas of Phoenix west of South Mountain. It also raises the floor 1,000 feet over the communities south of South Mountain. Area D raises the floor 1,000 feet over much of central PHX and Scottsdale. Area G raises the floor 1,000 feet over the Salt River Indian Reservation, Gilbert, and eastern Chandler. Area N raises the floor 1,000 feet over the growing areas of northern Phoenix and Scottsdale. The northern boundary of area K has been moved north of Riggs Road by 3 miles and raises the floor 2,000 feet. West of PHX, the airspace is raised 1,000 feet in the area north of the Estrella Mountains, allowing aircraft to transit at a higher altitude relative to terrain.

It is the stated opinion of the APA that concerns associated with lowering the airspace floors on both the east and west sides of the valley are easily addressed by increasing the ILS glide slopes from the present 3° to 3.5°.

The FAA does not agree. Glide slope angles above 3.1 degrees would result in the loss of approach minimums for category D & E aircraft. A 3° glide slope angle is the standard for safety, and increasing the angle of the glide slope is outside the scope of this rule.

The APA proposes incorporating Area U into Area G and using Gilbert Road as the boundary between Area C and Area G. A less desirable proposal is to combine Area U with Area C, creating an overlap with the Class B and FFZ Class D airspace. This alternative allows the use of the PXR 10 DME arc, and GA aircraft under Area C would be constrained by the Gilbert Road boundary of the FFZ Class D airspace. Both alternative proposals assume a 3,000 foot MSL floor in Area C. Additionally, AOPA stated the proposed Area U creates a potential “trap” for unsuspecting pilots. They commented that the NPRM indicates Area U would allow a north-south road reference for locally based pilots to avoid the Class B and FFZ Class D. They believe it would become a potential trap for pilots who inadvertently stray more than a half mile off course and would be a loss of lateral airspace to transition on the existing VFR flyway. AOPA recommends Area C be modified to make the eastern boundary align with Gilbert Road.

The FAA does not agree. The 3,000-foot MSL floor of the current Class B airspace in this area has been a constant source of Traffic Collision Avoidance System (TCAS) Resolution Advisory(s) (RA) to large turbine-powered aircraft operating at the 3,000-foot MSL floor of the current area. The conflicting VFR traffic frequently is not operating on the published flyway or at the recommended altitude of 2,500 feet MSL. Traffic routinely transits this area at altitudes within 100 feet of the 3,000-foot MSL floor. Area C is an area of intense large turbine-powered air carrier traffic descending to 3,000-foot MSL while on final approach to PHX. The RAs command the pilot to climb to avoid unknown traffic at a time when the aircraft is at a reduced power setting and preparing to land. The recovery from the response to these RAs often places the aircraft into a position where it cannot make a stabilized approach to the airport, causing the aircraft to go around. Additionally, responding to an RA can distract the pilot from maintaining separation from known preceding or adjacent traffic to other runways. The FAA has thoroughly researched its options in this matter and the solution remains to lower the floor of Area C to 2,700 feet MSL and to move the published VFR Flyway further east beyond the PXR 10 DME arc.

Incorporating Area U into Area G and retaining Gilbert Road as the western boundary would not achieve the goal of defining the airspace using NAVAIDs where available. Pilots unfamiliar with the local area, that are required to operate at or above the floor of the Class B airspace, would not be able to determine Gilbert Road. Additionally, this would be impractical during periods of reduced visibility or when obscured by clouds.

Combining Area U with Area C would create an overlap with the FFZ Class D airspace along the PXR 10 DME arc. When overlapping airspace designations apply to the same airspace, the operating rules associated with the more restrictive airspace designation apply. Since Class B airspace overlies the Class D airspace, this depiction on the Terminal Area Chart could cause confusion to operators of high performance aircraft operating in the pattern at FFZ at the traffic pattern altitude of 2,700 feet MSL. Clearance is required to operate within Class B airspace and specific separation standards apply to aircraft operating within Class B airspace. Therefore, it has been determined that in lieu of this suggestion, the area above the FFZ Class D airspace within the PXR 10 DME arc be defined as a subsection of the Class D airspace. This, in addition to using Gilbert Road/FFZ Class D airspace as a western boundary in conjunction with the PXR 10 DME arc, allows the use of the PXR 10 DME arc, and GA aircraft under Area C would be constrained by the Gilbert Road boundary of the FFZ Class D airspace, as suggested.

The Airline Pilots Association, International endorsed the proposal stating “The Air Traffic staff in Phoenix has done a commendable job in developing the proposed realignment of the Phoenix Class B airspace.” They were concerned with lowering the ceiling from 10,000 feet MSL to 9,000 feet MSL and allowing glider operations southwest of the airport above the Class B airspace by letter of agreement (LOA) between the FAA and glider operators. AOPA and APA expressed concern on the impact of the 9,000-foot vs. 10,000-foot MSL ceiling on the local soaring community within 30 NM of PHX. They both support the lowering of the ceiling provided the FAA enters into an LOA with the local soaring community permitting soaring operations between 9,000 feet MSL and 10,000 feet MSL within the mode-C veil.

The FAA has agreed to enter into an LOA with local glider operators to allow gliders to operate between 9,000-10,000 feet MSL without an operating transponder in accordance with FAR 91-125. This LOA will not allow these operations above the Class B airspace until leaving 10,000 feet MSL.

AOPA stated the proposal was too complex and does not meet the needs of PHX airspace users. They also stated that the local user groups were not adequately consulted on moving the VFR flyway.

The FAA does not agree. The VFR flyway was moved in response to comments received at public meetings. The PHX TRACON contacted user groups and offered public briefings concerning moving the VFR flyway east of the PXR 10 DME.

AOPA stated the PHX Class B would be the most complex and segmented Class B airspace in the United States. Also, that the needs of the surrounding GA and user community must be taken into consideration in the design process.

The FAA does not agree. A review of other Class B airspace nationally reveals that if strict adherence to the general guidance provided in FAA Order 7400.2E was applied to the PHX Class B airspace area design, the airspace would be overly restrictive to the GA VFR pilot. Consideration was given to the significant number of high volume GA airports in the valley, the large amount of flight training that occurs in the valley, the prevailing visibility, the abundant geographical landmarks, and the requirement to contain air traffic arriving and departing PHX in the Class B airspace area. To simplify the design along a national model would create more airspace than is needed for Class B operations at PHX.

AOPA presented an alternate proposal for the west side divided into three progressively lower floors. Their alternative was offered as a simpler, less complex configuration that would more than make up for the small amount of airspace pilots may have gained in the FAA's proposed design. AOPA states the same is true with the airspace shelves immediately north and south of PHX and the floor north of Scottsdale (SDL). AOPA's proposal retains the road definitions of 51st and 99th Avenues, which is contrary to the FAA's goal of defining the airspace using NAVAIDs where available.

The FAA does not agree. Pilots unfamiliar with the local area, operating at or above the floor of the Class B airspace, or those trying to avoid it, would not be able to determine 51st or 99th Avenue. Additionally, this would be impractical during periods of reduced visibility or when obscured by clouds. A 4,000-foot rectangular area, as proposed by AOPA, would represent a barrier to non-participating aircraft attempting to navigate north of the Estrella Mountains. The Minimum Vectoring Altitude (MVA) in this area is 5,000-5,500 feet MSL. The TRACON requires aircraft on a base leg to join the ILS at CAGOR intersection (PXR 16 DME) at 5,000 feet MSL. The TRACON cannot vector aircraft in this area below the MVA. The AOPA proposal would make the floor of this area 4,000-feet MSL. Though a rectangular area with a floor of 4,000 feet MSL, as suggested, may aid in simplification, it is overly restrictive to pilots who are able to navigate around or below it. In the FAA's proposal, pilots, navigating via the currently published Gila Route without Class B clearance, will be able to avoid the airspace below 5,000 feet MSL. Terrain penetrates the AOPA proposal with a precipitous 4,512-foot peak. This area is more restrictive than the current airspace, thus forcing non-participating aircraft closer to the ground. The AOPA proposal is contrary to its concerns with forcing non-participating pilots to fly at lower altitudes elsewhere.

The area over Goodyear and Luke AFB retains Litchfield Road as an eastern boundary and raises the floor to 6,000 feet MSL in the AOPA proposal, while retaining a PXR 25 DME arc on the western boundary.

The FAA does not agree. The airspace is expanded to contain PHX arrival traffic during periods of sustained arrival demand, and for the development of simultaneous ILS approach procedures during east traffic operations. The ability to develop these procedures is critical in enabling the TRACON to efficiently and safely manage the arrival rate during reduced visibility conditions and compacted arrival demand. Keeping the floor at 6,000 feet MSL in this area would not contain simultaneous ILS approach procedures. Aircraft on a north downwind will need to be level at 4,000 feet MSL prior to turning base leg to join the runway 8 ILS final approach course no sooner than ILIKE intersection (PXR 16 DME). The base leg required to achieve this will be near Luke AFB. A 6,000-foot MSL shelf in this area will not contain these aircraft.

Additionally, the AOPA proposal has an extension of the 6,000 foot MSL shelf approximately 3 NM north of the Peoria Road, at 33°35′00″ N. latitude, that exceeds the FAA proposal's lateral limit and offers no operational advantage. The shelves north and south of PHX in Area D and E offer significant benefit to the north and south of PHX by decompressing the vertical space available to non-participating aircraft by raising the floor of the Class B from the surface to 5,000 feet MSL. Aircraft departing the East/West transitions will be able to contact Scottsdale, Deer Valley, and Chandler towers sooner, prior to entering their Class D airspaces. The floors of PHX Class B in areas east and west of South Mountain will be raised 2,000 feet. This will facilitate navigation around the Class B airspace at higher altitudes.

The Williams Gateway Airport Authority (WGAA) expressed concern on the affect the proposed Class B airspace would have on commercial traffic growth at Williams Gateway Airport (IWA). WGAA urges the FAA to modify Area I to only the area truly needed as an arrival corridor for dual ILS systems into PHX. They also state that ILS approaches are being phased out in favor of GPS and RNAV approaches and that this should be a consideration.

The FAA acknowledges the growth in commercial traffic at IWA. The primary concern in this action is providing the highest degree of safety while preserving the most efficient use of available terminal airspace to all users. The airspace needed to contain aircraft during simultaneous ILS approach procedures at PHX requires aircraft on a south downwind over IWA to be level at 5,000 feet MSL prior to turning base leg to join the runway 26 and 25 ILS final approach courses no sooner than ABOSE and BUDME intersections (PXR 16.6 DME). The base leg required to achieve this will be between the PXR 17—25 DME arc. A 7,000-foot MSL shelf in this area will not contain these aircraft. Although GPS and RNAV technology is replacing ILS approaches at other airports, the ILS system at PHX will be in place for the foreseeable future.

The Rule

The FAA is amending Title 14 Code of Federal Regulations (14 CFR) part 71 to modify the PHX Class B airspace area. Specifically, this action depicted in the attached chart, expands the eastern boundary to ensure the containment of the PHX STARs within Class B airspace and reconfigures several existing areas, correcting inefficiencies identified during public meetings hosted by Phoenix TRACON. These modifications reduce the overall size of the PHX Class B airspace area, improve the containment of turbo-jet aircraft within the airspace, and improve the alignment of lateral boundaries with VOR radials and visual landmarks for improved VFR navigation.

The following are the revisions for the PHX Class B airspace: The floor of the airspace east and west of PHX is lowered to contain PHX arrival traffic during periods of sustained arrival demand. Additionally, these changes facilitate the planned development of simultaneous ILS approach procedures by creating necessary Class B airspace to contain the new procedures. The ability to develop these procedures is critical in enabling PHX to sustain an arrival rate equivalent to demand during reduced visibility conditions. During these periods, the airport arrival rate (AAR) is reduced by over 30%, from 72 aircraft an hour to 48 aircraft an hour. This creates a nationwide impact to the NAS that in the past has taken the user days to recover. The floor of the airspace north and south of PHX is raised to create greater access for VFR aircraft in areas that do not require Class B airspace.

The results of the PHX Class B changes are the proper containment of large turbine-powered aircraft within Class B airspace, more efficient traffic management during periods of reduced visibility, increased arrival rate demand, de-confliction of non-participating aircraft operating in close proximity to ILS crossing altitudes east of the airport, and better alignment of lateral boundaries with prominent and abundant visual landmarks for improved VFR navigation.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this rule. We suggest readers seeking greater detail read the full regulatory evaluation, a copy of which we have placed in the docket for this rulemaking.

In conducting these analyses, the FAA has determined that this rule: (1) Has benefits that justify its costs, (2) is not an economically “significant regulatory action” as defined in section 3(f) of Executive Order 12866, (3) is not “significant” as defined in DOT's Regulatory Policies and Procedures; (4) would not have a significant economic impact on a substantial number of small entities; (5) would not create unnecessary obstacles to the foreign commerce of the United States; and (6) would not impose an unfunded mandate on state, local, or tribal governments, or on the private sector by exceeding the threshold identified above. These analyses are summarized below.

This final rule will modify the PHX, AZ, Class B airspace area by lowering the altitude ceiling of the airspace and expanding the arrival extension boundaries.

The final rule will enhance operational efficiency, simplified navigation in the Phoenix terminal area and reduce circumnavigation costs. Since Class B airspace is already in place at Phoenix, and since the modifications in this rule are a contraction of the Class B airspace, minimal costs will result. Thus, the FAA has determined this final rule will be cost-beneficial.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This final rule will not impose any circumnavigation costs on individuals operating in the Phoenix area and the final rule will not impose any costs on small business entities. Operators of GA aircraft are considered individuals, not small business entities, and are not included when performing a regulatory flexibility analysis. Flight schools are considered small business entities. However, the FAA assumes that they provide instruction in aircraft equipped to navigate in Class B airspace if they currently provide instruction in the Phoenix terminal area. Therefore, as the FAA Administrator, I certify that this final rule will not have a significant economic impact on a substantial number of small entities.

International Trade Impact Assessment

The Trade Agreements Act of 1979 (Pub. L. 96-39) prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this final rule and has determined that it would have only a domestic impact and therefore no affect on international trade.

Unfunded Mandates Assessment

Title II of the Unfunded Mandates Reform Act of 1995 (Pub. L. 104-4) requires each Federal agency to prepare a written statement assessing the effects of any Federal mandate in a proposed or final agency rule that may result in an expenditure of $100 million or more (adjusted annually for inflation with the base year 1995) in any one year by State, local, and tribal governments, in the aggregate, or by the private sector; such a mandate is deemed to be a “significant regulatory action.” The FAA currently uses an inflation-adjusted value of $128.1 million in lieu of $100 million. This final rule does not contain such a mandate.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 3000—Subpart B—Class B Airspace.

* * * * *

AWP AZ B Phoenix, AZ [Revised]

Phoenix Sky Harbor International Airport (Primary Airport)

(Lat. 33°26′03″ N., long. 112°00′42″ W.)

Phoenix VORTAC

(Lat. 33°25′59″ N., long. 111°58′13″ W.)

Boundaries

Area A. That airspace extending upward from the surface to and including 9,000 feet MSL defined by an east/west line along the northern boundary defined by Camelback Road and the PXR 10 DME, thence east to the intersection of Camelback Road and I-17; thence a line direct to the I-10/Squaw Peak Stack following the Loop 202 Freeway from the I-10/Squaw Peak Stack to the Red Mountain Hohokam Stack; thence northeast to the intersection of Camelback Road and Hayden Wash (Lat. 33° 30′ 07″ N., long. 111° 54′ 32″ W.); thence east along Camelback Road to the PXR 6 DME arc (Lat. 33°30′07″ N., long. 111°53′00″ W.); thence south to the Power Line/Canal (Lat. 33° 21′ 25″ N., long. 111° 53′ 33″ W.); thence west to a point at Lat. 33° 21′ 25″N., long.111° 54′55″ W., thence northwest to the intersection of I-10 and SR-143 (lat. 33° 24′ 37″ N., long.111° 58′ 38″ W.); thence west to SR-51/I-10 extension to lat. 33° 24′ 34″ N., long.112° 02′ 13″ W., thence southwest to a point at lat. 33° 21′ 45″ N., long. 112° 06′ 20″ W.; thence west along the lat. 33° 21′ 45″ N.; thence north along the PXR 10 DME arc until intersecting Camelback Road.

Area B. That airspace extending upward from 3,000 feet MSL to and including 9,000 feet MSL defined by an east/west line along the northern boundary defined by the intersection of Camelback Road and the PXR 15 DME arc; thence east along Camelback Road to the intersection of Camelback Road and the PXR 10 DME arc; thence south along the PXR 10 DME arc until the intersection with lat. 33°21′45″ N.; thence east along lat. 33°21′45″ N. to lat. 33°21′ 45″ N., long. 112°06′20″ W.; thence southwest direct to the intersection of the Gila River and the Chandler Blvd extension (lat. 33°18′18″ N, long. 112°12′03″ W.); thence northwest along the Gila River to the intersection of the river and the PXR 15 DME arc; thence northwest along the PXR 15 DME arc to the intersection of Camelback Road.

Area C. That airspace extending upward from 2,700 feet MSL to and including 9,000 feet MSL defined by an east/west line along the northern boundary defined by the intersection of Camelback Road and PXR 6 DME arc (lat. 33°30′07″ N., long. 111°53′00″ W.); thence east to the intersection of Gilbert Road and PXR 10 DME arc; thence south along Gilbert Road to the to the intersection of Gilbert Road and Falcon Field (FFZ) Class D airspace (lat. 33°24′35″ N., long. 111°47′18″ W.); thence southeast along the FFZ Class D airspace boundary to the intersection with the PXR 10 DME arc; thence southwest along the PXR 10 DME arc to the intersection with lat. 33°21′25″ N.; thence west along lat. 33°21′25″ N. to the intersection of the PXR 6 DME arc; thence north along the PXR 6 DME arc to the intersection of Camelback Road with (lat.33°30′07″ N., long. 111°53′00 W.).

Area D. That airspace extending upward from 5,000 feet MSL to and including 9,000 feet MSL defined by an east/west line along the northern boundary using the Peoria Avenue/Shea Boulevard alignment from the intersection of I-17 (lat. 33°35′00″ N., long. 112°07′00″ W.); thence east along lat. 33°35′00″ N. to the intersection with Pima Road (lat. 33°35′00″., long. 111°53′28 W.); thence south along Pima Road to the intersection of Camelback Road; thence west along Camelback Road to Hayden Wash (lat. 33°30′07″ N., long. 111°54′32″ W.); thence southwest on a line direct to the Red Mountain Hohokam Stack; thence west along the Loop 202 Freeway to the I-10/Squaw Peak Stack; thence northwest to the intersection of Camelback Road and I-17; thence north along I-17 to the intersection of I-17 and Peoria Avenue/Shea Boulevard.

Area E. That airspace extending upward from 5,000 feet MSL to and including 9,000 feet MSL defined by an eastern boundary starting at the intersection of I-10/SR-143 (lat. 33°24′37″ N., long.111°58′38″ W.); thence southeast to lat. 33°21′25″ N., long. 111°54′55″ W.; thence southeast to the Chandler Airport (lat. 33°16′00″ N., long. 111°48′40″ W.); thence west along lat. 33°16′00″ N. to the intersection of the Gila River; thence north along the river to the intersection of the Chandler Boulevard extension (lat. 33°18′18″ N., long. 112°12′03.″ W.); thence northeast direct to lat. 33°21′45″ N., long. 112°06′20″ W.; thence northeast direct to lat. 33°24′34″ N., long. 112°02′13″ W.; thence east to the intersection of I-10/SR-143.

Area F. That airspace extending upward from 4,000 feet MSL to and including 9,000 feet MSL defined by an east/west line along the northern boundary at the intersection of Peoria Avenue/Shea Boulevard and the PXR 25 DME arc (lat. 33°35′00″ N., long. 112°26′7″ W.); thence east along lat. 33°35′00″ N. to the intersection of I-17 (lat. 33°35′00″ N., long. 112°07′00″ W.); thence south along I-17 to the intersection of Camelback Road; thence west along Camelback Road to the intersection of the PXR 15 DME arc; thence south along the PXR 15 DME arc to lat. 33°24′00″ N., long. 112°15′59″ W.; thence west along lat. 33°24′00″ N. to the intersection of the PXR 25 DME arc; thence north along the PXR 25 DME arc north to the intersection of Peoria Avenue/Shea Boulevard (lat. 33°35′00″ N., long. 112°26′07″ W.).

Area G. That airspace extending upward from 4,000 feet MSL to and including 9,000 feet MSL defined by an east/west line along the northern boundary defined by Peoria Avenue/Shea Boulevard and the intersection of Pima Road (lat. 33°35′00″ N., long. 111°53′28″ W.); thence east along lat. 33°35′00″ N. to the PXR 15 DME arc; thence south along the PXR 15 DME arc to lat. 33°16′00″ N.; thence west along lat. 33°16′00″ N. to Chandler Airport (lat. 33°16′00″ N., long. 111°48′40″ W.); thence direct northwest to lat. 33°21′25″ N., long. 111°54′55″ W.; thence east along the Power Line/Canal (lat. 33°21′25″ N.) to the PXR 10 DME arc; thence north along the PXR 10 DME arc to the intersection of Camelback Road; thence west along Camelback Road to the intersection of Pima Road; thence north along Pima Road to the intersection of Peoria Avenue/Shea Boulevard (lat. 33°35′00″ N., long. 111°53′28″ W.).

Area H. That airspace extending upward from 5,000 feet MSL to and including 9,000 feet MSL defined by an east/west line from the intersection of Litchfield Road and Southern Avenue (lat. 33°24′″ N., long. 112°21′30″ W.); thence east along lat. 33°24′00″ N. to the intersection of the PXR 15 DME arc; thence southeast along the PXR 15 DME arc to lat. 33°20′00″ N.; thence west along lat. 33°20′00″ N. to intersect the extension of Litchfield Rd (lat. 33°20′00″ N., long. 112°21′30″ W.); thence north along Litchfield Road to lat. 33°24′00″ N., long. 112°21′30″ W.

Area I. That airspace extending upward from 5,000 feet MSL to and including 9,000 feet MSL defined by an east/west line along lat. 33°35′00″ N. from the intersection of Peoria Avenue/Shea Boulevard and the PXR 15 DME arc east to the PXR 25 DME arc (lat. 33°35′00″ N., long. 111°30′18″ W.); thence south along the PXR 25 DME arc to lat. 33°16′00″ N.; thence west along lat. 33°16′00″ N. to the PXR 15 DME arc; thence north along the PXR 15 DME arc to the intersection of Peoria Avenue/Shea Boulevard (lat. 33°35′00″ N.).

Area J. That airspace extending upward from 6,000 feet MSL to and including 9,000 feet MSL defined by lat. 33°35′00″ N., long. 112°15′40″ W. on the Loop 101 Freeway; thence north along the freeway to a point at lat. 33°40′00″ N., long. 112°13′45″ W.; thence north to lat. 33°41′41″ N., long. 112°13′05″ W. on the PXR 20 DME arc; thence east along the PXR 20 DME arc to the PXR 354° radial; thence south along the PXR 354° radial to the intersection of the Loop 101 Freeway; thence east along the freeway to a point on Loop 101 Freeway at the approach end of Scottsdale Airport Runway 21 (lat. 33°38′39″ N., long. 111°53′31″ W.); thence northeast to lat. 33°43′38″ N., long. 111°46′54″ W. on the PXR 20 DME arc; thence southeast along the PXR 20 DME arc to intersect lat. 33°35′00″ N.; thence west along lat. 33°35′00″ N. to lat. 33°35′00″ N. long. 112°15′40″ W.

Area K. That airspace extending upward from 6,000 feet MSL to and including 9,000 feet MSL defined by the intersection of the PXR 17 DME arc and lat. 33°16′00″ N.; thence east along lat. 33°16′00″ N. to the PXR 20 DME arc; thence southwest along the PXR 20 DME arc to I-10 (lat. 33°07′02″ N., long. 111°50′26″ W.); thence northwest along I-10 to lat. 33°09′39″ N., long. 111°52′28″ W. on the PXR 17 DME arc; thence clockwise along the PXR 17 DME arc to intersect with lat. 33°16′00″ N.

Area L. That airspace extending upward from 6,000 feet MSL to and including 9,000 feet MSL defined by the intersection of the PXR 25 DME arc and lat. 33°24′00″ N.; thence east along lat. 33°24′00″ N. to Litchfield Road; thence south along Litchfield Road to lat. 33°20′00″ N., long. 112°21′30″ W.; thence east along lat. 33°20′00″ N. to the PXR 15 DME arc; thence southeast along the PXR 15 DME arc to the Gila River; thence southeast along the Gila River to lat. 33°16′00″ N.; thence west along lat. 33°16′00″ N. to the PXR 25 DME arc; thence north along the PXR 25 DME to lat. 33°24′00″ N.

Area M. That airspace extending upward from 7,000 feet MSL to and including 9,000 feet MSL defined by lat. 33°48′02″ N., long. 112°12′24″ W.; thence east along the PXR 25 DME arc to the PXR 354° radial; thence south along the PXR 354° radial to the PXR 20 DME arc; thence west along the PXR 20 DME arc to lat. 33°41′41″ N, long. 112°13′05″ W.; thence north to lat. 33°48′02″ N., long. 112°12′24″ W.

Area N. That airspace extending upward from 7,000 feet MSL to and including 9,000 feet MSL defined from the PXR 354° radial and the PXR 20 DME arc; thence east along the PXR 20 DME arc to lat. 33°43′38″ N., long. 111°46′54″ W.; thence southwest to the approach end of Scottsdale Airport Runway 21 (lat. 33°38′39″ N., long. 111°53′31″ W.); thence northwest along the Loop 101 Freeway to the intersection of the PXR 354° radial; thence north along the PXR 354° radial to the PXR 20 DME arc.

Area O. That airspace extending upward from 7,000 feet MSL to and including 9,000 feet MSL defined from lat. 33°47′11″ N., long. 111°42′16″ W.; thence southeast along the PXR 25 DME arc to intersect the Peoria Avenue/Shea Boulevard extension (lat. 33°35′00″ N., long. 111°30′18″ W.); thence west along lat. 33°35′00″ N. to the PXR 20 DME arc; thence northwest along the PXR 20 DME arc to lat. 33°43′38″ N., long. 111°46′54″ W., thence northeast to lat. 33°47′11″ N., long. 111°42′16″ W.

Area P. That airspace extending upward from 7,000 feet MSL to and including 9,000 feet MSL defined by the intersection of the PXR 20 DME arc and lat. 33°16′00″ N., long. 111°37′31″ W.; thence east along lat. 33°16′00″ N. to intersect with the PXR 25 DME arc; thence southwest along the PXR 25 DME arc to intersect with I-10; thence northwest along I-10 to intersect with the PXR 20 DME arc; thence northeast along the PXR 20 DME arc to the intersection of lat. 33°16′00″ N.

Area Q. That airspace extending upward from 8,000 feet MSL to and including 9,000 feet MSL defined by lat. 33°53′48″ N., long. 112°11′50″ W.; thence east along the PXR 30 DME arc to the PXR 354° radial; thence south along the PXR 354° radial to the PXR 25 DME arc; thence west along the PXR 25 DME arc to lat. 33°48′02″ N., long. 112°12′24″ W.; thence north to lat. 33°53′48″ N., long. 112°11′50″ W.

Area R. That airspace extending upward from 8,000 feet MSL to and including 9,000 feet MSL defined by lat. 33°50′38″ N., long. 111°37′39″ W. on the PXR 30 DME arc; thence southeast along the PXR 30 DME arc to lat. 33°43′44″ N., long. 111°29′14″ W.; thence south to lat. 33°40′46″ N., long. 111°34′03″ W. on the PXR 25 DME arc; thence northwest along the PXR 25 DME arc to lat. 33°47′11″ N., long. 111°42′16″ W.; thence northeast direct to lat. 33°50′38″ N., long. 111°37′39″ W.

Area S. That airspace extending upward from 8,000 feet MSL to and including 9,000 feet MSL defined by the intersection of the PXR 25 DME arc and PXR 127° radial; thence southeast along the PXR 127° radial to the PXR 30 DME arc; thence southwest along the PXR 30 DME arc to intersect with I-10; thence northwest along I-10 to the PXR 25 DME arc; thence northeast along the PXR 25 DME arc to intersect with the PXR 127° radial.

Area T. That airspace extending upward from 7,000 feet MSL to and including 9,000 feet MSL defined by lat. 33°30′34″ N., long. 112°27′36″ W.; thence west along lat. 33°30′34″ N. to the PXR 30 DME arc; thence south along the PXR 30 DME arc to lat. 33°16′00″ N.; thence east along lat. 33°16′00″ N. to the PXR 25 DME arc; thence north along the PXR 25 DME arc to lat. 33°30′34″ N., long. 112°27′36″ W.

Area U. That airspace extending upward from 3,400 feet MSL to and including 9,000 feet MSL defined from the intersection of the PXR 10 DME arc and Camelback Road (lat. 33°30′08″ N., long. 111°47′20″ W.); thence south along the PXR 10 DME arc to intersect with the southwest boundary of FFZ Class D airspace (lat. 33°24′02″ N., long. 111°46′30″ W.); thence northwest along FFZ Class D line to Gilbert Road (lat. 33°24′35″ N., long. 111°47′18″ W.); thence north along Gilbert Road to the intersection of Camelback Road and the PXR 10 DME arc (lat. 33°30′ 08″ N., long. 111°47′ 20″ W.).

* * * * *

Issued in Washington DC, July 30, 2007.
Edith V. Parish,
Manager, Airspace and Rules Group.

BILLING CODE 4910-13-P

[FR Doc. 07-3818 Filed 8-7-07; 8:45 am]

BILLING CODE 4910-13-C